DEPARTMENT OF HOMELAND SECURITY

Coast Guard

33 CFR Part 165

[Docket No. USCG-2012-1036]

Safety Zones & Special Local Regulations; Recurring Marine Events in Captain of the Port Long Island Sound Zone

AGENCY: Coast Guard, DHS.

ACTION: Notice of enforcement of regulation.

SUMMARY: The Coast Guard will enforce safety zones for eleven fireworks displays and two swim events in the Sector Long Island Sound area of responsibility on various dates and times listed in the table below. This action is necessary to provide for the safety of life on navigable waterways during these fireworks displays and swim events. During the enforcement period, no person or vessel may enter the safety zone without permission of the Captain of the Port (COTP) Sector Long Island Sound or designated representative.

DATES: The regulations in 33 CFR 165.151 will be enforced during the dates and times listed in the SUPPLEMENTARY INFORMATION section.

FOR FURTHER INFORMATION CONTACT: If you have questions on this notice, call or email Petty Officer Scott Baumgartner, Waterways Management Division, U.S. Coast Guard Sector Long Island Sound; telephone 203-468-4559, email Scott.A.Baumgartner@uscg.mil.

SUPPLEMENTARY INFORMATION: The Coast Guard will enforce the safety zones listed in 33 CFR 165.151 on the specified dates and times as indicated in tables below. If the event is delayed by inclement weather, the regulation will be enforced on the rain date indicated in table below.

Table 1 to § 165.151
6.3 Vietnam Veterans/Town of East Haven Fireworks | • Date: June 29, 2013.
| • Rain date: June 30, 2013.
| • Time: 9 p.m. to 10:30 p.m.
| • Location: Waters off Cosey beach, East Haven, CT in approximate position, 41°14′19″ N, 072°52′09.80″ W (NAD 83).
7.3 City of Westbrook, CT July Celebration Fireworks | • Date: July 2, 2013.
| • Rain date: July 6, 2013.
| • Time: 8:30 p.m. to 10:30 p.m.
| • Location: Waters of Westbrook Harbor, Westbrook, CT in approximate position, 41°16′10″ N, 072°26′14″ W (NAD 83).
7.9 City of Middletown Fireworks | • Date: July 3, 2013.
| • Rain date: July 5, 2013.
| • Time: 8:45 p.m. to 10:15 p.m.
| • Location: Waters of the Connecticut River, Middletown Harbor, Middletown, CT in approximate position 41°33′47.50″ N, 072°38′38.39″ W (NAD 83).
7.12 City of Stamford Fireworks | • Date: July 3, 2013.
| • Rain date: July 5, 2013.
| • Time: 8:30 p.m. to 10 p.m.
| • Location: Waters of Fisher's Westcott cove, Stamford, CT in approximate position 41°02′09.56″ N, 073°30′57.76″ W (NAD 83).
7.13 City of West Haven Fireworks | • Date: July 3, 2013.
| • Rain date: July 5, 2013.
| • Time: 8:45 p.m. to 10:30 p.m.
| • Location: Waters of New Haven Harbor, off Bradley Point, West Haven, CT in approximate position 41°15′07.00″ N, 072°57′26.00″ W (NAD 83).
7.24 Village of Asharoken Fireworks | • Date: July 4.
| • Rain date: July 5.
| • Time: 8:45 p.m. to 10 p.m.
| • Location: Waters of Northport Bay, Asharoken, NY in approximate position, 41°56′21.20″ N, 073°21′15.14″ W (NAD 83).
7.34 Devon Yacht Club Fireworks | • Date: July 6, 2013.
| • Rain date: July 7, 2013.
| • Time: 8:45 p.m. to 10 p.m.
| • Location: Waters of Napeague Bay, in Block Island Sound off Amagansett, NY in approximate position 40°59′41.40″ N, 072°06′08.70″ W (NAD 83).
7.36 Friar's Head Golf Club Fireworks | • Date: July 6, 2013.
| • Rain date: July 7, 2013.
| • Time: 9:15 p.m. to 10 p.m.
| • Location: Waters of Long Island Sound off Baiting Hollow, NY in approximate position, 40°58′19.53″ N, 072°43′45.65″ W (NAD 83).
7.42 Connetquot River Summer Fireworks | • Date: July 3, 2013.
| • Rain date: July 5, 2013.
| • Time: 9 p.m. to 10:30 p.m.
| • Location: Waters of the Connetquot River off Snapper Inn Restaurant, Oakdale, NY in approximate position 40°43′30.03″ N, 073°08′40.25″ W (NAD 83).
7.44 National Golf Links Fireworks | • Date: July 6, 2013.
| • Rain date: July 7, 2013.
| • Time: 9 p.m. to 10:30 p.m.
| • Location: Waters of the Great Peconic Bay ¾ of a mile northwest of Bullhead Bay, Shinnecock, NY in approximate position 40°55′11.79″ N, 072°28′04.34″ W (NAD 83).
9.4 The Creek Fireworks | • Date: August 31, 2013.
| • Rain date: September 1, 2013.
| • Time: 7:45 p.m. to 9 p.m.
| • Location: Waters of Long Island Sound off the Creek Golf Course, Lattingtown, NY in approximate position 40°54′13.00″ N 073°35′58.00″ W (NAD 83).

Table 2 to § 165.151
1.3 Maggie Fischer Memorial Great South Bay Cross Bay Swim | • Date: July 12, 2013.
| • Time: 7 a.m. to 12 p.m.
| • Location: Waters of the Great South Bay, NY. Starting Point at the Fire Island Lighthouse Dock in approximate position 40°38′01″ N 073°13′07″ W, northerly through approximate points 40°38′52″ N 073°13′09″ W, 40°39′40″ N 073°13′30″ W, 40°40′30″ N 073°14′00″ W, and finishing at Gilbert Park, Brightwaters, NY at approximate position 40°42′25″ N 073°14′52″ W (NAD 83).
1.6 Swim Across America Greenwich | • Date: June 22, 2013.
| • Time: 4:30 a.m. until noon.
| • Location: All navigable waters of Stamford Harbor within a half miles long and 1000 foot wide polygon shaped box stretching from Dolphin Cove to Rocky Point between Stamford and Greenwich, CT. Formed by connecting the following points. Beginning at point (A) 41°01′32.03″ N, 073°33′8.93″ W, then south east to point (B) 41°01′15.01″ N, 073°32′55.58″ W, then south west to point (c) 41°00′49.25 N, 073°33′20.36″ W, then north west to point (D) 41°00′58.00″ N, 073°33′27.00″ W, then north east to point (E) 41°01′15.80″ N, 073°33′09.85″ W, then heading north and ending at point (A) (NAD 83).

These regulations were published in the Federal Register on May 24, 2013 (78 FR 31402).

Under the provisions of 33 CFR 165.151, the fireworks displays and swim events listed above are established as safety zones. During these enforcement periods, persons and vessels are prohibited from entering into, transiting through, mooring, or anchoring within the safety zones unless they receive permission from the COTP or designated representative.

This notice is issued under authority of 33 CFR 165.151 and 5 U.S.C. 552 (a). In addition to this notice in the Federal Register, the Coast Guard will provide the maritime community with advance notification of this enforcement period via the Local Notice to Mariners or marine information broadcasts. If the COTP determines that a regulated area need not be enforced for the full duration stated in this notice, a Broadcast Notice to Mariners may be used to grant general permission to enter the regulated area.

Dated: June 17, 2013.
J.M. Vojvodich,
Captain, U.S. Coast Guard, Captain of the Port Sector Long Island Sound.

[FR Doc. 2013-15238 Filed 6-25-13; 8:45 am]

BILLING CODE 9110-04-P